DEPARTMENT OF COMMERCE

International Trade Administration

[Application No. 10-6A001]

Export Trade Certificate of Review

ACTION: Notice of issuance of an amended Export Trade Certificate of Review to Alaska Longline Cod Commission (“ALCC”), Application No. 10-6A001.

SUMMARY: The Secretary of Commerce, through the Office of Trade and Economic Analysis (“OTEA”), issued an amended Export Trade Certificate of Review (“Certificate”) to ALCC on February 16, 2023.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. 4011-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

ALCC's Certificate has been amended as follows:

1. Under Export Trade, changed references of Export Product to Export Products

2. Added the following six products as Export Products within the meaning of section 325.2(j) of the Regulations (15 CFR 325.2(j)):

a. cod heads

b. cod collars

c. cod roe

d. cod chu

e. cod milt

f. ray wings

3. Changed the reference to Export Product in the following sentence:

Change “Frozen-at-sea means that the Export Product is frozen on the catcher-processor vessel while at-sea immediately after being headed and gutted.” to “Frozen-at-sea means that the Alaska cod is frozen on the catcher-processor vessel while at-sea immediately after being headed and gutted.”

Under Export Trade in the Certificate, the Export Products are as follows:

Export Products

ALCC plans to export frozen at-sea, headed and gutted, Alaska cod (Gadus macrocephalus), also known as Pacific cod. Headed and gutted means the head and viscera are removed prior to freezing. Frozen-at-sea means that the Alaska cod is frozen on the longline catcher-processor vessel while at-sea immediately after being headed and gutted.

ALCC also plans to export byproducts of ALCC frozen-at-sea, headed and gutted Alaska cod: cod heads; cod collars; cod roe; cod chu; cod milt; and ray wings. The cod heads, cod collars, cod roe, cod chu, and cod milt are derived from parts of the Alaska cod remaining after the heading-and-gutting of the cod to produce frozen-at-sea headed and gutted Alaska cod. The ray wings are derived from various species of skate, which are caught incidentally while targeting Alaska cod.

ALCC's Membership remains the same following the amendment.

The effective date of the amended certificate is October 21, 2022, the date on which ALCC's application to amend was deemed submitted.

Dated: February 28, 2023.
Joseph Flynn,
Director, Office of Trade and Economic Analysis, International Trade Administration, U.S. Department of Commerce.

[FR Doc. 2023-04461 Filed 3-3-23; 8:45 am]

BILLING CODE 3510-DR-P